DEPARTMENT OF THE INTERIOR

Fish and Wildlife Service

[FWS-R5-R-2014-N172; BAC-4311-K9-S3]

James River National Wildlife Refuge, Prince George County, VA; Comprehensive Conservation Plan and Environmental Assessment

AGENCY: Fish and Wildlife Service, Interior.

ACTION: Notice of availability; request for comments.

SUMMARY: We, the U.S. Fish and Wildlife Service (Service), announce the availability of a draft comprehensive conservation plan and environmental assessment (CCP and EA) for James River National Wildlife Refuge (NWR) for public review and comment. James River NWR is located in Prince George County, Virginia, and is administered by staff at Eastern Virginia Rivers NWR Complex. The draft CCP and EA describe our proposal for managing James River NWR for the next 15 years. Alternative B is identified as the Service-preferred alternative. Also available for public review and comment are the draft compatibility determinations, which are included as appendix B in the draft CCP and EA.

DATES: To ensure consideration of your written comments, please send them by November 21, 2014. We will announce upcoming public meetings in local news media, via our project mailing list, and on the refuge planning Web site: http://www.fws.gov/refuge/James_River/what_we_do/conservation.html

ADDRESSES: You may submit comments or requests for copies or more information by any of the following methods. You may request hard copies or a CD-ROM of the documents.

Email: EasternVirginiaRiversNWRC@fws.gov. Please include “James River CCP” in the subject line of the message.

Fax: Attention: Rebekah Martin, 804-333-3396.

U.S. Mail: Rebekah Martin, Deputy Refuge Manager, U.S. Fish and Wildlife Service, P.O. Box 1030, Warsaw, VA 22572.

In-Person Drop-off, Viewing, or Pickup: Call Rebekah Martin at 804-333-1470, extension 113, or Andy Hofmann, Refuge Manager, at 804-333-1470, extension 112, during regular business hours to make an appointment to view the document. For more information on locations for viewing or obtaining documents, see “Public Availability of Documents” under SUPPLEMENTARY INFORMATION.

FOR FURTHER INFORMATION CONTACT: Rebekah Martin, Deputy Refuge Manager, 804-333-1470, extension 113 (phone) or EasternVirginiaRiversNWRC@fws.gov (email) (please put “James River NWR” in the subject line).

SUPPLEMENTARY INFORMATION:

Introduction

With this notice, we continue the CCP process for James River NWR. We published our original notice of intent to prepare a CCP in the Federal Register on January 11, 2012 (77 FR 1716).

The 4,324-acre James River NWR lies in the Chesapeake Bay watershed and is located along the James River in Prince George County, Virginia, approximately 8 miles southeast of the city of Hopewell, and 30 miles southeast of Richmond, the State capital. The refuge was established under the authority of the Endangered Species Act of 1973 (16 U.S.C. 1534) in 1991, to protect nationally significant nesting and roosting habitat for the bald eagle (Haliaeetus leucocephalus). The refuge encompasses 4,324 acres of pine-dominated hardwood and floodplain forests, freshwater marsh and shrub swamp, aquatic habitats, erosional bluffs, and non-forested upland. The refuge also has a rich cultural history, illuminated by numerous known archaeological and historical sites.

Wildlife-dependent recreational opportunities at James River NWR include a 24-day deer hunt each fall, as well as wildlife observation, photography, and environmental education and interpretive program opportunities by reservation.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management conservation, legal mandates, and our policies. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

Public Outreach

In August 2012, we distributed a planning newsletter to over 550 parties on our project mailing list. The newsletter informed people about the planning process and asked recipients to contact us about issues or concerns they would like us to address. We also posted the newsletter on our Web site for people to access electronically. In addition, we notified the general public of our planning project, and our interest in hearing about issues and concerns, by publishing news releases in local newspapers. We also held afternoon and evening public scoping meetings on September 12, 2012, in Prince George, Virginia. The purpose of the two meetings was to share information on the planning process and to solicit management issues and concerns. Throughout the process, refuge staff have conducted additional outreach via participation in community meetings, events, and other public forums. We have considered and evaluated all of the comments we received and addressed them in various ways in the alternatives presented in the draft CCP and EA.

CCP Alternatives We Are Considering

Several issues were raised by us, other governmental partners, and the public during the public scoping process. To address these issues, we developed and evaluated three alternatives in the draft CCP and EA. A full description of each alternative is in the draft CCP and EA. All alternatives include measures to control invasive species, protect cultural resources, improve inventory and monitoring programs, and maintain existing partnerships for habitat management and visitor services. All alternatives include measures to continue to share staff across the Eastern Virginia Rivers NWR Complex, require a permit for refuge access until adequate new infrastructure can support increased visitation, and maintain existing facilities.

There are other actions that differ among the alternatives. The draft CCP and EA provide a full description of all alternatives and relate each to the issues and concerns that arose during the planning process. Below, we provide summaries for the three alternatives.

Alternative A (Current Management)

This alternative is the “no-action” alternative required by the National Environmental Policy Act. Alternative A defines our current management activities, including those planned, funded, or under way, and serves as the baseline against which to compare alternatives B and C. Under alternative A, we would continue to maintain the 2,653 acres of pine-dominated forest on the refuge, with an emphasis on protecting this habitat for nesting and roosting bald eagles, as well as other native species that use this habitat. For other habitat types on the refuge, we would continue to maintain quality habitat for the benefit of native wildlife species by limiting disturbance, conducting wildlife surveys, monitoring invasive species presence, implementing best management practices, and collaborating with partners for wildlife habitat protection and population monitoring.

Additionally, we would continue to accommodate public archery, muzzleloader, and shotgun deer hunting opportunities in the fall. We would continue to encourage visitors to participate in refuge- or partner-sponsored wildlife observation, photography, environmental education, and interpretation opportunities. Additional opportunities would be available to visitors on a by-request or case-by-case basis.

Alternative B (Manage Forest Health With Pine-Dominated Component; New, Enhanced, and Focused Public Use Opportunities [Service-Preferred Alternative])

Alternative B is the Service-preferred alternative. It combines the actions we believe would best achieve the refuge's purposes, vision, and goals, and respond to public issues. Under alternative B, we would emphasize the management of specific refuge habitats to support priority species whose habitat needs would benefit other species of conservation concern that are found in the area. We would promote the transition of 2,651 acres of former pine plantation toward mature pine savanna with understory for resident and breeding cavity-dwelling and ground-nesting species, including the brown-headed nuthatch, Chuck-will's-widow, red-headed woodpecker, and yellow-billed cuckoo. We would emphasize protecting and promoting bald eagle nesting habitat, as well as protecting the integrity of the refuge's other habitats for native species, including migrating waterfowl, waterbirds, the federally endangered Atlantic sturgeon, and habitat suitable for the federally threatened sensitive joint-vetch. We would also expand our conservation, research, monitoring, and management partnerships to help restore and conserve the refuge.

We would enhance our cultural resource protection to increase knowledge and appreciation for the refuge's rich cultural history and heritage, as well as expand our visitor services programs to improve opportunities for wildlife-dependent recreation. Visitor service improvements would include expanding the on-refuge opportunities for wildlife observation, photography, environmental education, and interpretation of natural and cultural resources in partnership with others. We would pursue Service administrative requirements to expand public deer hunting, open the refuge to spring and fall turkey hunting, open the refuge to limited waterfowl hunting by youth, promote youth involvement in all hunting opportunities, and open the refuge to fishing at two designated locations.

Alternative C (Manage Forest Health With Hardwood Conversion Component; New and Expanded Public Use Opportunities)

Under alternative C, we would emphasize the management of specific refuge habitats to support priority species whose habitat needs would benefit other species of conservation concern that are found in the area. We would promote the transition of 2,609 acres of former pine plantation toward an oak/hickory/pine forest using selective cut forestry and best management practices to facilitate this transition in a phased manner while still protecting select trees for bald eagle use. We would protect the integrity of the refuge's other habitats for native species, including maintenance of up to 57 acres of non-forested upland for wildlife habitat and administrative purposes.

We would enhance our cultural resource protection similar to alternative B. Our visitor services programs and opportunities would expand on those identified under alternative B, with modest increases in our hunting, fishing, wildlife observation, and interpretation programs associated with providing access and infrastructure to additional areas of the refuge.

Next Steps

After this comment period ends, we will analyze the comments and address them in the form of a final CCP and finding of no significant impact.

Public Availability of Documents

In addition to any methods in ADDRESSES, you can view or obtain documents from the agency Web site at http://www.fws.gov/refuge/James_River/what_we_do/conservation.html.

Submitting Comments

We consider comments substantive if they:

• Question, with reasonable basis, the accuracy of the information in the document.

• Question, with reasonable basis, the adequacy of the EA.

• Present reasonable alternatives other than those presented in the EA.

• Provide new or additional information relevant to the EA.

Public Availability of Comments

Before including your address, phone number, email address, or other personal identifying information in your comments, you should be aware that your entire comment—including your personal identifying information—may be made publicly available at any time. While you can ask us in your comment to withhold your personal identifying information from public review, we cannot guarantee that we will be able to do so.

Dated: September 23, 2014.
Deborah Rocque,
Acting Regional Director, Northeast Region.

[FR Doc. 2014-25098 Filed 10-21-14; 8:45 am]

BILLING CODE 4310-55-P